DEPARTMENT OF ENERGY

Orders Granting Authority To Import and Export Natural Gas, To Import and Export Liquefied Natural Gas, and Vacating Prior Authority During September 2016

| FE Docket Nos.
Bluewater Gas Storage, LLC | 16-114-NG
Energia Azteca X, S.A. DE C.V | 15-115-NG
Trafigura Trading LLC | 16-107-NG
Texas Eastern Transmission, LP | 16-119-NG
Applied LNG Technologies, LLC | 16-112-NG/ 16-05-NG
Consolidated Edison Company of New York, Inc. and Orange and Rockland Utilities, Inc | 16-121-NG
Alberta Northeast Gas, Limited | 16-122-NG
Central Hudson Gas & Electric Corporation | 16-124-NG
Northern Utilities, Inc | 16-130-NG
The Southern Connecticut Gas Company Corporation | 16-128-NG
Connecticut Natural Gas Company | 16-125-NG
Yankee Gas Services Company | 16-129-NG
Northeast Gas Marketing LLC | 16-127-NG
Liberty Utilities (Energynorth Gas) Corp. d/b/a Liberty Utilities | 16-126-NG
Termoelectrica De Mexicali S. DE R.L. DE C.V | 16-120-NG
Bay State Gas Company d/b/a Columbia Gas of Massachusettes | 16-123-NG
Aliza LLC | 16-111-NG
Energy Plus Natural Gas LLC | 16-117-NG
Vista Energy Marketing, L.P | 16-116-NG

AGENCY: Office of Fossil Energy, Department of Energy.

ACTION: Notice of orders.

SUMMARY: The Office of Fossil Energy (FE) of the Department of Energy gives notice that during September 2016, it issued orders granting authority to import and export natural gas, to import and export liquefied natural gas (LNG), and vacating prior authority. These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on November 10, 2016.
John A. Anderson,
Director, Office of Regulation and International Engagement, Office of Oil and Natural Gas.

Appendix—DOE/FE Orders Granting Import/Export Authorizations
3885 | 09/08/16 | 16-114-NG | Bluewater Gas Storage, LLC | Order 3885 granting blanket authority to import/export natural gas from/to Canada.
3886 | 09/14/16 | 16-115-NG | Energia Azteca X, S.A. de C.V | Order 3886 granting blanket authority to export natural gas to Mexico.
3887 | 09/14/16 | 16-107-NG | Trafigura Trading LLC | Order 3887 granting blanket authority to import/export natural gas from/to Canada/Mexico.
3888 | 09/14/16 | 16-119-NG | Texas Eastern Transmission, LP | Order 3888 granting blanket authority to import/export natural gas from/to Mexico.
3889/3771-A | 09/14/16 | 16-112-NG/16-05-NG | Applied LNG Technologies, LLC | Order 3889 granting blanket authority to import/export LNG from/to Canada/Mexico by truck, and vacating prior authority in Order 3771.
3890 | 09/14/16 | 16-121-NG | Consolidated Edison Company of New York, Inc. and Orange and Rockland Utilities, Inc | Order 3890 granting blanket authority to import/export natural gas from/to Canada.
3891 | 09/14/16 | 16-122-NG | Alberta Northeast Gas, Limited | Order 3891 granting blanket authority to import/export natural gas from/to Canada.
3892 | 09/14/16 | 16-124-NG | Central Hudson Gas & Electric Corporation | Order 3892 granting blanket authority to import/export natural gas from/to Canada.
3893 | 09/14/16 | 16-130-NG | Northern Utilities, Inc | Order 3893 granting blanket authority to import/export natural gas from/to Canada.
3894 | 09/14/16 | 16-128-NG | The Southern Connecticut Gas Company | Order 3894 granting blanket authority to import/export natural gas from/to Canada.
3895 | 09/14/16 | 16-125-NG | Connecticut Natural Gas Corporation | Order 3895 granting blanket authority to import/export natural gas from/to Canada.
3896 | 09/14/16 | 16-129-NG | Yankee Gas Services Company | Order 3896 granting blanket authority to import/export natural gas from/to Canada.
3897 | 09/14/16 | 16-127-NG | Northeast Gas Marketing LLC | Order 3897 granting blanket authority to import/export natural gas from/to Canada.
3898 | 09/14/16 | 16-126-NG | Liberty Utilities (EnergyNorth Gas) Corp. d/b/a Liberty Utilities | Order 3898 granting blanket authority to import/export natural gas from/to Canada.
3899 | 09/14/16 | 16-120-NG | Termoelectrica de Mexicali, S. de R.L. de C.V | Order 3899 granting blanket authority to import/export natural gas from/to Mexico.
3900 | 09/14/16 | 16-123-NG | Bay State Gas Company d/b/a Columbia Gas of Massachusetts | Order 3900 granting blanket authority import/export natural gas from/to Canada.
3901 | 09/14/16 | 16-111-NG | Aliza LLC | Order 3901 granting blanket authority to import/export natural gas from/to Canada/Mexico.
3902 | 09/14/16 | 16-117-NG | Energy Plus Natural Gas LLC | Order 3902 granting blanket authority to import/export natural gas from/to Canada.
3903 | 09/20/16 | 16-116-NG | Vista Energy Marketing, L.P | Order 3903 granting blanket authority to import natural gas from Canada.

[FR Doc. 2016-27512 Filed 11-15-16; 8:45 am]

BILLING CODE 6450-01-P